DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of data collections using Form ETA-563, Trade Adjustment Assistance Quarterly Activities Report (1205-0016 expires May 31, 2006), and Form ETA-9027 (1205-0016 expires May 31, 2006), Training Waivers Issued and Revoked.

A copy of the proposed information collection request (ICR) can be obtained by contacting the office listed below in the addressee section of this notice or at this Web site: http://www.doleta.gov/Performance/guidance/OMBControlNumber.cfm.

DATES: Written comments must be submitted to the office listed in the addressee section below on or before May 22, 2006.

ADDRESSES: Susan Worden, Program Analyst, Division of Trade Adjustment Assistance, Room C-5311, 200 Constitution Ave., NW., Washington, DC 20210. Phone (202) 693-3517 (this is not a toll-free number), fax (202) 693-3584, or e-mail Worden.Susan@dol.gov.

SUPPLEMENTARY INFORMATION:

I. Background

Key workload data on the Trade Adjustment Assistance (TAA) program are needed to allocate program and administrative funds to State agencies administering the program for the Secretary. This revision to the ETA-563 and ETA-9027 (1205-0016 expires May 31, 2006) eliminates non-essential data elements or duplication of data collected elsewhere, and simplifies the reporting process.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a notice of proposed revision of collection of information currently approved by OMB (ETA-563 and ETA-9027, 1205-0016 expires May 31, 2006). This revision of the ETA-563 reduces the burden hours and eliminates data elements duplicated in other data collections. The changes to the ETA-9027 eliminate outdated data elements.

Type of Review: Revision.

Agency: Employment and Training Administration.

Title: Quarterly Determinations, Allowance Activities, and Employability Services Under the Trade Act; Training Waivers Issued and Revoked.

OMB Number: 1205-0016.

Recordkeeping: 2 years.

Affected Public: State or Local Government.

Cite/reference | Total respondents | Frequency | Total responses | Average time per response | Burden
ETA-563 | 52 | Quarterly | 50 | 8 minutes | 26 hours.
ETA-9027 | 52 | Quarterly | 50 | 10 minutes | 34 hours.
Combined Reprogramming burden | 52 | One time |  | Minimal | Minimal.
Totals |  |  | 100 |  | 60 hours.

Total Burden Cost (capital/startup): $0.

Total Burden Cost (operating/maintaining): $900.

Comments submitted in response to this comment request will be summarized and/or included in the request for Office of Management and Budget approval of the information collection request; they will also become a matter of public record.

Dated: March 16, 2006.
Erica Cantor,
Director, Division of Trade Adjustment Assistance.

[FR Doc. E6-4195 Filed 3-22-06; 8:45 am]

BILLING CODE 4510-30-P